DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alaska: City and Borough of Sitka (FEMA Docket No.: B-2024). | City and Borough of Sitka (20-10-0299P). | The Honorable Gary Paxton, Mayor, City and Borough of Sitka, 100 Lincoln Street, Sitka, AK 99835. | Sitka United States Post Office and Court House, 100 Lincoln Street, Sitka, AK 99835. | Jun. 4, 2020 | 020006
Arizona:
Cochise (FEMA Docket No.: B-2024). | City of Sierra Vista (18-09-2056P). | The Honorable Rick Mueller, Mayor, City of Sierra Vista, 1011 North Coronado Drive, Sierra Vista, AZ 85635. | Community Development Department, 1011 North Coronado Drive, Sierra Vista, AZ 85635. | Jun. 5, 2020 | 040017
Maricopa (FEMA Docket, No.: B-2041). | City of Buckeye (20-09-1324P). | The Honorable Jackie A. Meck, Mayor, City of Buckeye, 530 East Monroe Avenue, Buckeye, AZ 85326. | Engineering Department, 530 East Monroe Avenue, Buckeye, AZ 85326. | Oct. 2, 2020 | 040039
Maricopa (FEMA Docket, No.: B-2041). | City of Chandler (19-09-1713P). | The Honorable Kevin Hartke, Mayor, City of Chandler, 175 South Arizona Avenue, Chandler, AZ 85225. | Transportation & Development Department, 215 East Buffalo Street, Chandler, AZ 85225. | Oct. 2, 2020 | 040040
Maricopa (FEMA Docket, No.: B-2041). | City of Glendale (20-09-1322P). | The Honorable Jerry Weiers, Mayor, City of Glendale, 5850 West Glendale Avenue, Glendale, AZ 85301. | City Hall, 5850 West Glendale Avenue, Glendale, AZ 85301. | Oct. 2, 2020 | 040045
Maricopa (FEMA Docket, No.: B-2046 and B-2056). | City of Litchfield Park (20-09-0240P). | The Honorable Thomas L. Schoaf, Mayor, City of Litchfield Park, 214 West Wigwam Boulevard, Litchfield Park, AZ 85340. | City Hall, 214 West Wigwam Boulevard, Litchfield Park, AZ 85340. | Oct. 20, 2020 | 040128
Maricopa (FEMA Docket, No.: B-2046). | City of Peoria (20-09-0149P). | The Honorable Cathy Carlat, Mayor, City of Peoria, 8401 West Monroe Street, Peoria, AZ 85345. | City Hall, 8401 West Monroe Street, Peoria, AZ 85345. | Sep. 18, 2020 | 040050
Maricopa (FEMA Docket No.: B-2024). | City of Peoria (20-09-0216P). | The Honorable Cathy Carlat, Mayor, City of Peoria, 8401 West Monroe Street, Peoria, AZ 85345. | City Hall, 8401 West Monroe Street, Peoria, AZ 85345. | Jul. 10, 2020 | 040050
Maricopa (FEMA Docket, No.: B-2041). | City of Peoria (20-09-1322P). | The Honorable Cathy Carlat, Mayor, City of Peoria, 8401 West Monroe Street, Peoria, AZ 85345. | City Hall, 8401 West Monroe Street, Peoria, AZ 85345. | Oct. 2, 2020 | 040050
Maricopa (FEMA Docket, No.: B-2046). | City of Phoenix (20-09-1323P). | The Honorable Kate Gallego, Mayor, City of Phoenix, 200 West Washington Street, 11th Floor, Phoenix, AZ 85003. | Street Transportation Department, 200 West Washington Street, 5th Floor, Phoenix, AZ 85003. | Oct. 16, 2020 | 040051
Maricopa (FEMA Docket, No.: B-2046). | City of Surprise (20-09-0147P). | The Honorable Skip Hall, Mayor, City of Surprise, 16000 North Civic Center Plaza, Surprise, AZ 85374. | Public Works Department, Engineering Development Services, 16000 North Civic Center Plaza, Surprise, AZ 85374. | Sep. 18, 2020 | 040053
Maricopa (FEMA Docket, No.: B-2046). | City of Surprise (20-09-0619P). | The Honorable Skip Hall, Mayor, City of Surprise, 16000 North Civic Center Plaza, Surprise, AZ 85374. | Public Works Department, Engineering Development Services, 16000 North Civic Center Plaza, Surprise, AZ 85374. | Sep. 18, 2020 | 040053
Maricopa (FEMA Docket, No.: B-2041). | City of Surprise (20-09-1326P). | The Honorable Skip Hall, Mayor, City of Surprise, 16000 North Civic Center Plaza, Surprise, AZ 85374. | Public Works Department, Engineering Development Services, 16000 North Civic Center Plaza, Surprise, AZ 85374. | Oct. 9, 2020 | 040053
Maricopa (FEMA Docket, No.: B-2046). | City of Tempe (20-09-1323P). | The Honorable Mark Mitchell, Mayor, City of Tempe, P.O. Box 5002, Tempe, AZ 85280. | City Hall, Engineering Department, 31 East 5th Street, Tempe, AZ 85281. | Oct. 16, 2020 | 040054
Maricopa (FEMA Docket, No.: B-2041). | Town of Fountain Hills (20-09-1325P). | The Honorable Ginny Dickey, Mayor, Town of Fountain Hills, 16705 East Avenue of the Fountains, Fountain Hills, AZ 85268. | Town Hall, 16705 East Avenue of the Fountains, Fountain Hills, AZ 85268. | Oct. 1, 2020 | 040135
Maricopa (FEMA Docket No.: B-2024). | Unincorporated Areas of Maricopa County (19-09-1002P). | The Honorable Clint L. Hickman, Chairman, Board of Supervisors, Maricopa County, 301 West Jefferson Street, 10th Floor, Phoenix, AZ 85003. | Flood Control District of Maricopa County, 2801 West Durango Street, Phoenix, AZ 85009. | Jul. 10, 2020 | 040037
Maricopa (FEMA Docket, No.: B-2046). | Unincorporated Areas of Maricopa County (20-09-0020P). | The Honorable Clint L. Hickman, Chairman, Board of Supervisors, Maricopa County, 301 West Jefferson Street, 10th Floor, Phoenix, AZ 85003. | Flood Control District of Maricopa County, 2801 West Durango Street, Phoenix, AZ 85009. | Sep. 18, 2020 | 040037
Maricopa (FEMA Docket, No.: B-2041). | Unincorporated Areas of Maricopa County (20-09-1322P). | The Honorable Clint L. Hickman, Chairman, Board of Supervisors, Maricopa County, 301 West Jefferson Street, 10th Floor, Phoenix, AZ 85003. | Flood Control District of Maricopa County, 2801 West Durango Street, Phoenix, AZ 85009. | Oct. 2, 2020 | 040037
Yavapai (FEMA Docket, No.: B-2041). | Town of Prescott Valley (20-09-0224P). | The Honorable Kell Palguta, Mayor, Town of Prescott Valley, Civic Center, 7501 East Skoog Boulevard, 4th Floor, Prescott Valley, AZ 86314. | Town Hall, Engineering Division, 7501 East Civic Circle, Prescott Valley, AZ 86314. | Sep. 21, 2020 | 040121
California:
Los Angeles (FEMA Docket, No.: B-2046 and B-2056). | City of Santa Clarita (20-09-0137P). | The Honorable Cameron Smyth, Mayor, City of Santa Clarita, 23920 Valencia Boulevard, Suite 300, Santa Clarita, CA 91355. | City Hall, Planning Department, 23920 Valencia Boulevard, Suite 300, Santa Clarita, CA 91355. | Sep. 23, 2020 | 060729
Plumas (FEMA Docket, No.: B-2041). | Unincorporated Areas of Plumas County (19-09-2233P). | The Honorable Kevin Goss, Chairman, Board of Supervisors, Plumas County, 520 Main Street, Room 309, Quincy, CA 95971. | Plumas County Courthouse, 520 Main Street, Quincy, CA 95971. | Oct. 9, 2020 | 060244
Riverside (FEMA Docket, No.: B-2046). | City of Banning (19-09-2247P). | The Honorable Daniela Andrade, Mayor, City of Banning, 99 East Ramsey Street, Banning, CA 92220. | Public Works Department, 99 East Ramsey Street, Banning, CA 92220. | Sep. 23, 2020 | 060246
Riverside (FEMA Docket No.: B-2024). | City of Indio (19-09-1450P). | The Honorable Glenn A. Miller, Mayor, City of Indio, City Hall, 100 Civic Center Mall, Indio, CA 92201. | Engineering Services Division, 100 Civic Center Mall, Indio, CA 92202. | Jun. 26, 2020 | 060255
Riverside (FEMA Docket, No.: B-2041). | City of Moreno Valley (20-09-0154P). | The Honorable Yxstian A. Gutierrez, Mayor, City of Moreno Valley, 14177 Frederick Street, Moreno Valley, CA 92553. | Public Works Department, 14177 Frederick Street, Moreno Valley, CA 92553. | Sep. 25, 2020 | 065074
Riverside (FEMA Docket No.: B-2024). | Unincorporated Areas of Riverside County (19-09-1450P). | The Honorable V. Manuel Perez, Chairman, Board of Supervisors, Riverside County, 4080 Lemon Street, 5th Floor, Riverside, CA 92501. | Riverside County Flood Control and Water Conservation District, 1995 Market Street, Riverside, CA 92501. | Jun. 26, 2020 | 060245
Sacramento (FEMA Docket, No.: B-2046). | City of Elk Grove (20-09-0792P). | The Honorable Steve Ly, Mayor, City of Elk Grove, 8401 Laguna Palms Way, Elk Grove, CA 95758. | Public Works Department, 8401 Laguna Palms Way, Elk Grove, CA 95758. | Oct. 27, 2020 | 060767
San Diego (FEMA Docket, No.: B-2046). | City of San Marcos (20-09-0211P). | The Honorable Rebecca Jones, Mayor, City of San Marcos, 1 Civic Center Drive, San Marcos, CA 92069. | City Hall, 1 Civic Center Drive, San Marcos, CA 92069. | Oct. 16, 2020 | 060296
San Diego (FEMA Docket, No.: B-2046). | City of Vista (20-09-0048P). | The Honorable Judy Ritter, Mayor, City of Vista, 200 Civic Center Drive, Vista, CA 92084. | City Hall, 200 Civic Center Drive, Vista, CA 92084. | Sep. 23, 2020 | 060297
Ventura (FEMA Docket, No.: B-2046). | City of Simi Valley (18-09-0918P). | The Honorable Keith L. Mashburn, Mayor, City of Simi Valley, 2929 Tapo Canyon Road, Simi Valley, CA 93063. | City Hall, 2929 Tapo Canyon Road, Simi Valley, CA 93063. | Sep. 23, 2020 | 060421
Ventura (FEMA Docket, No.: B-2046). | City of Simi Valley (18-09-2061P). | The Honorable Keith L. Mashburn, Mayor, City of Simi Valley, 2929 Tapo Canyon Road, Simi Valley, CA 93063. | City Hall, 2929 Tapo Canyon Road, Simi Valley, CA 93063. | Nov. 6, 2020 | 060421
Ventura (FEMA Docket No.: B-2024). | City of Simi Valley (19-09-1889P). | The Honorable Keith L. Mashburn, Mayor, City of Simi Valley, 2929 Tapo Canyon Road, Simi Valley, CA 93063. | City Hall, 2929 Tapo Canyon Road, Simi Valley, CA 93063. | Jul. 1, 2020 | 060421
Ventura (FEMA Docket, No.: B-2041). | City of Thousand Oaks (19-09-1687P). | The Honorable Al Adam, Mayor, City of Thousand Oaks, 2100 Thousand Oaks Boulevard, Thousand Oaks, CA 91362. | City Hall, 2100 East Thousand Oaks Boulevard, Thousand Oaks, CA 91362. | Oct. 8, 2020 | 060422
Florida:
Duval (FEMA Docket No.: B-2041). | City of Jacksonville (20-04-0139P). | The Honorable Lenny Curry, Mayor, City of Jacksonville, 117 West Duval Street, Suite 400, Jacksonville, FL 32202. | City Hall, 117 West Duval Street, Jacksonville, FL 32202. | Sep. 25, 2020 | 120077
Pasco (FEMA Docket No.: B-2041). | Unincorporated Areas of Pasco County (19-04-6976P). | Mr. Mike Moore, Chairman, Pasco County, Board of County Commissioners, 8731 Citizens Drive, New Port Richey, FL 34654. | Pasco County Development Services Branch, 8731 Citizens Drive, New Port Richey, FL 34654. | Sep. 18, 2020 | 120230
Idaho:
Ada (FEMA Docket No.: B-2041). | City of Eagle (19-10-0717P). | The Honorable Jason Pierce, Mayor, City of Eagle, City Hall, 660 East Civic Lane, Eagle, ID 83616. | City Hall, 660 East Civic Lane, Eagle, ID 83616. | Sep. 25, 2020 | 160003
Ada (FEMA Docket No.: B-2041). | Unincorporated Areas of Ada County (19-10-0717P). | The Honorable Kendra Kenyon, Chair, Board of Ada County Commissioners Ada County Courthouse, 200 West Front Street, 3rd Floor, Boise, ID 83702. | Ada County Courthouse, 200 West Front Street, Boise, ID 83702. | Sep. 25, 2020 | 160001
Iowa:
Polk (FEMA Docket No.: B-2046). | City of Johnston (20-07-0961P). | The Honorable Paula Dierenfeld, Mayor, City of Johnston, 6221 Merle Hay Road, Johnston, IA 50131. | City Hall, 6221 Merle Hay Road, Johnston, IA 50131. | Oct. 21, 2020 | 190745
Polk (FEMA Docket No.: B-2046). | Unincorporated Areas of Polk County (20-07-0961P). | Mr. Tom Hockensmith, Supervisor, Board of Polk County Supervisors, Polk County Administration Building, 111 Court Avenue, Room 300, Des Moines, IA 50309. | Polk County Public Works, 5885 Northeast 14th Street, Des Moines, IA 50313. | Oct. 21, 2020 | 190901
Illinois:
Champaign (FEMA Docket No.: B-2056). | City of Champaign (18-05-1977P). | The Honorable Deborah Frank Feinen, Mayor, City of Champaign, 102 North Neil Street, Champaign, IL 61820. | City Hall, 102 North Neil Street, Champaign, IL 61820. | Nov. 12, 2020 | 170026
Kane (FEMA Docket No.: B-2041). | City of Aurora (20-05-2946P). | The Honorable Richard C. Irvin, Mayor, City of Aurora, 44 East Downer Place 3rd Floor, Aurora, IL 60505. | City Hall, Engineering Department, 44 East Downer Place, Aurora, IL 60505. | Sep. 25, 2020 | 170320
Kane (FEMA Docket No.: B-2041). | Unincorporated Areas of Kane County (20-05-2947P). | The Honorable Christopher Lauzen, Chairman, Kane County Board, Kane County Government Center Building A, 719 South Batavia Avenue, Geneva, IL 60134. | Kane County Government Center, Building A, Water Resources Department, 719 South Batavia Avenue, Geneva, IL 60134. | Sep. 25, 2020 | 170896
Indiana:
Allen (FEMA Docket No.: B-2041). | City of Fort Wayne (20-05-2000P). | The Honorable Tom Henry, Mayor, City of Fort Wayne, Citizens Square Building, 200 East Berry Street, Suite 420, Fort Wayne, IN 46802. | Department of Planning Services, 200 East Berry Street, Suite 150, Fort Wayne, IN 46802. | Oct. 8, 2020 | 180003
LaPorte (FEMA Docket No.: B-2041). | City of La Porte (19-05-4383P). | The Honorable Tom Dermody, Mayor, City of La Porte, 801 Michigan Avenue, LaPorte, IN 46350. | City Hall, 801 Michigan Avenue, LaPorte, IN 46350. | Sep. 25, 2020 | 180490
LaPorte (FEMA Docket No.: B-2041). | Unincorporated Areas of LaPorte County (19-05-4383P). | Ms. Sheila Matias, President, Commissioner, 555 Michigan Avenue, Suite 202, LaPorte, IN 46350. | LaPorte County Plan Commission, County Government Complex, Suite 503A, 809 State Street, La Porte, IN 46350. | Sep. 25, 2020 | 180144
Scott (FEMA Docket No.: B-2041). | Unincorporated Areas of Scott County (19-05-2009P). | Mr. Robert Tobias, President, County Commissioner District 1, Scott County Courthouse, Suite 130, 1 East McClain Avenue, Scottsburg, IN 47170. | Scott County Area Plan Commission, 1 East McClain Avenue, Suite G40, Scottsburg, IN 47170. | Jul. 16, 2020 | 180474
Michigan:
Kent (FEMA Docket No.: B-2041). | City of Kentwood (19-05-5009P). | The Honorable Stephen Kepley, Mayor, City of Kentwood, P.O. Box 8848, Kentwood, MI 49518. | City Hall, 4900 Breton Avenue Southeast, Kentwood, MI 49508. | Oct. 9, 2020 | 260107
Oakland (FEMA Docket No.: B-2024). | Township of Bloomfield (19-05-2978P). | Mr. Leo Savoie, Township of Bloomfield Supervisor, P.O. Box 489, Bloomfield Hills, MI 48303. | Bloomfield Township Clerk's Office, 4200 Telegraph Road, Bloomfield Hills, MI 48303. | Jun. 29, 2020 | 2 260169
Wayne (FEMA Docket No.: B-2041). | Charter Township of Brownstown (19-05-2936P). | The Honorable Andrew Linko, Supervisor, Charter Township of Brownstown, 21313 Telegraph Road, Brownstown, MI 48183. | Charter Township Offices, 21313 Telegraph Road, Brownstown, MI 48183. | Sep. 24, 2020 | 260218
Wayne (FEMA Docket No.: B-2041). | City of Taylor (19-05-2936P). | The Honorable Rick Sollars, Mayor, City of Taylor, Municipal Offices, 23555 Goddard Road, Taylor, MI 48180. | Department of Public Works, 25605 Northline Road, Taylor, MI 48180. | Sep. 24, 2020 | 260728
Nebraska:
Hall (FEMA Docket No.: B-2041). | City of Grand Island (19-07-1260P). | The Honorable Roger Steele, Mayor, City of Grand Island, City Hall, 100 East 1st Street, Grand Island, NE 68801. | Regional Planning Department, 100 East 1st Street, Grand Island, NE 68801. | Sep. 25, 2020 | 310103
Hall (FEMA Docket No.: B-2041). | Unincorporated Areas of Hall County (19-07-1260P). | The Honorable Pamela E. Lancaster, Chair, Hall County Board of County Commissioners Administration Building, 121 Street Pine Street, Grand Island, NE 68801. | Hall County Regional Planning Department, 100 East 1st Street, Grand Island, NE 68801. | Sep. 25, 2020 | 310100
Lancaster (FEMA Docket No.: B-2046). | City of Lincoln (20-07-0142P). | The Honorable Leirion Gaylor Baird, Mayor, City of Lincoln, 555 South 10th Street, Suite 301, Lincoln, NE 68508. | Building & Safety Department, 555 South 10th Street, Lincoln, NE 68508. | Sep. 25, 2020 | 315273
Nevada:
Clark (FEMA Docket No.: B-2041). | City of Mesquite (20-09-1320P). | The Honorable Allan Litman, Mayor, City of Mesquite, 10 East Mesquite Boulevard, Mesquite, NV 89027. | Office of The City Engineer, 10 East Mesquite Boulevard, Mesquite, NV 89027. | Oct. 5, 2020 | 320035
Clark (FEMA Docket No.: B-2024). | Unincorporated Areas of Clark County (19-09-1371P). | The Honorable Marilyn Kirkpatrick, Chair, Board of Commissioners, Clark County, 500 South Grand Central Parkway, 6th Floor, Las Vegas, NV 89106. | Clark County Office of the Director of Public Works, 500 South Grand Central Parkway, 2nd Floor, Las Vegas, NV 89155. | Jul. 3, 2020 | 320003
Nye (FEMA Docket No.: B-2041). | Unincorporated Areas of Nye County (20-09-1321P). | The Honorable John Koenig, Chairman, Board of Commissioners, Nye County, 2100 East Walt Williams Drive, Suite 100, Pahrump, NV 89048. | Nye County Department of Planning, 250 North Highway 160 Suite 1, Pahrump, NV 89060. | Oct. 1, 2020 | 320018
Washoe (FEMA Docket No.: B-2046). | Unincorporated Areas of Washoe County (20-09-0371P). | The Honorable Bob Lucey, Chairman, Board of Commissioners, Washoe County, 1001 East 9th Street, Building A, Reno, NV 89512. | Washoe County Administration Building, Department of Public Works, 1001 East 9th Street, Reno, NV 89512. | Oct. 8, 2020 | 320019
New Jersey:
Essex (FEMA Docket No.: B-2046). | Township of Belleville (19-02-0938P). | The Honorable Michael Melham, Mayor, Township of Belleville, 152 Washington Avenue #1, Belleville, NJ 07109. | Engineering Office, 152 Washington Avenue, Belleville, NJ 07109. | Sep. 25, 2020 | 340177
Union (FEMA Docket No.: B-2041). | Borough of Roselle (20-02-0602X). | The Honorable Christine Dansereau, Mayor, Borough of Roselle, Borough Hall, 210 Chestnut Street, Roselle, NJ 07203. | Borough Municipal Building, 210 Chestnut Street, Roselle, NJ 07203. | Sep. 25, 2020 | 340472
New York:
Nassau (FEMA Docket No.: B-2024). | Village of Kings Point (19-02-0330P). | The Honorable Michael C. Kalnick, Mayor, Village of Kings Point, Village Hall, 32 Stepping Stone Lane, Kings Point, NY 11024. | Village Hall, 32 Stepping Stone Lane, Kings Point, NY 11024. | Aug. 5, 2020 | 360473
Westchester (FEMA Docket No.: B-2024). | City of New Rochelle (19-02-1191P). | The Honorable Noam Bramson, Mayor, City of New Rochelle, 515 North Avenue, New Rochelle, NY 10801. | City Hall/Department of Public Works, 515 North Avenue, New Rochelle, NY 10801. | Sep. 4, 2020 | 360922
Westchester (FEMA Docket No.: B-2046). | Village of Mamaroneck (20-02-0294P). | The Honorable Thomas A. Murphy, Mayor, Village of Mamaroneck, 123 Mamaroneck Avenue, Mamaroneck, NY 10543. | Building Inspector, The Regatta Building, 123 Mamaroneck Avenue, Mamaroneck, NY 10543. | Dec. 3, 2020 | 360916
Ohio:
Cuyahoga (FEMA Docket No.: B-2046). | City of North Olmsted (19-05-3365P). | The Honorable Kevin M. Kennedy, Mayor, City of North Olmsted, 5200 Dover Center Road, North Olmsted, OH 44070. | City Hall, 5200 Dover Center Road, North Olmsted, OH 44070. | Oct. 29, 2020 | 390120
Cuyahoga (FEMA Docket No.: B-2046). | City of Westlake (19-05-3365P). | The Honorable Dennis M. Clough, Mayor, City of Westlake, 27700 Hilliard Boulevard, Westlake, OH 44145. | City Hall, 27700 Hilliard Boulevard, Westlake, OH 44145. | Oct. 29, 2020 | 390136
Texas:
Dallas (FEMA Docket No.: B-2041). | City of Dallas (19-06-3571P). | The Honorable Eric Johnson, Mayor, City of Dallas, 1500 Marilla Street, Room 5EN, Dallas, TX 75201. | Trinity Watershed Management Department, Flood Plain and Drainage Management, 320 East Jefferson Blvd. Room 307, Dallas, TX 75203. | Sep. 18, 2020 | 480171
Dallas (FEMA Docket No.: B-2041). | City of Dallas (20-06-0582P). | The Honorable Eric Johnson, Mayor, City of Dallas, 1500 Marilla Street, Room 5EN, Dallas, TX 75201. | Trinity Watershed Management Department, Flood Plain and Drainage Management, 320 East Jefferson Blvd. Room 307, Dallas, TX 75203. | Oct. 8, 2020 | 480171
Dallas (FEMA Docket No.: B-2041). | Town of Highland Park (19-06-3290P). | The Honorable Margo Goodwin, Mayor, Town of Highland Park, 4700 Drexel Drive, Highland Park, TX 75205. | Engineering Department, 4700 Drexel Drive, Highland Park, TX 75205. | Sep. 18, 2020 | 480178
Tarrant (FEMA Docket No.: B-2041). | City of Arlington (18-06-3756P). | The Honorable Jeff Williams, Mayor, City of Arlington, City Hall, P.O. Box 90231, Arlington, TX 76010. | City Hall, 101 West Abram Street, Arlington, TX 76010. | Sep. 25, 2020 | 485454
Tarrant (FEMA Docket No.: B-2046). | City of Arlington (19-06-0599P). | The Honorable Jeff Williams, Mayor, City of Arlington, City Hall, P.O. Box 90231, Arlington, TX 76010. | City Hall, 101 West Abram Street, Arlington, TX 76010. | Oct. 22, 2020 | 485454
Tarrant (FEMA Docket No.: B-2046). | City of Arlington (20-06-2305P). | The Honorable Jeff Williams, Mayor, City of Arlington, City Hall, P.O. Box 90231, Arlington, TX 76010. | City Hall, 101 West Abram Street, Arlington, TX 76010. | Sep. 24, 2020 | 485454
Tarrant (FEMA Docket No.: B-2041). | City of Fort Worth (18-06-3756P). | The Honorable Betsy Price, Mayor, City of Fort Worth, 200 Texas Street, Fort Worth, TX 76102. | Department of Transportation and Public Works, 200 Texas Street, Fort Worth, TX 76102. | Sep. 25, 2020 | 480596
Tarrant (FEMA Docket No.: B-2046). | City of Grand Prairie (20-06-2305P). | The Honorable Ron Jensen, Mayor, City of Grand Prairie, P.O. Box 534045, Grand Prairie, TX 45053. | Community Development Center, 206 West Church Street, Grand Prairie, TX 75050. | Sep. 24, 2020 | 485472
Washington:
Clark (FEMA Docket No.: B-2041). | City of Vancouver (20-10-0406P). | The Honorable Anne McEnerny-Olge, Mayor, City of Vancouver, City Hall, 415 West 6th Street, Vancouver, WA 98660. | City Hall, 415 West 6th Street, Vacouver, WA 98660. | Sep. 18, 2020 | 530027
Mason (FEMA Docket No.: B-2041). | Unincorporated Areas of Mason County (20-10-0789P). | The Honorable Sharon Trask, Chair, Board of Commissioners, Mason County, 411 North 5th Street, Shelton, WA 98584. | Mason County Public Works, 100 West Public Works Drive, Shelton, WA 98584. | Oct. 16, 2020 | 530115
Wisconsin:
Brown (FEMA Docket No.: B-2041). | Unincorporated Areas of Brown County (19-05-3386P). | The Honorable Patrick Moynihan, Jr., Chair, County Board of Supervisors, Brown County, 305 East Walnut Street, Green Bay, WI 54305. | Brown County, Zoning Office, 305 East Walnut Street, Green Bay, WI 54305. | Sep. 18, 2020 | 550020
Brown (FEMA Docket No.: B-2046) | Village of Ashwaubenon (20-05-2968P). | The Honorable Mary Kardoskee, President, Village of Ashwaubenon, Village Hall, 2155 Holmgren Way, Ashwaubenon, WI 54304. | Village Hall, 2155 Holmgren Way, Ashwaubenon, WI 54304. | Oct. 16, 2020 | 550600
Jefferson (FEMA Docket No.: B-2046) | City of Jefferson (20-05-1721P). | The Honorable Dale Oppermann, Mayor, City of Jefferson, 317 South Main Street, Jefferson, WI 53549. | City Hall, 317 South Main Street, Jefferson, WI 53549. | Nov. 6, 2020 | 555561
Milwaukee (FEMA Docket No.: B-2041). | City of West Allis (20-05-2969X). | The Honorable Dan Devine, Mayor, City of West Allis, 7525 West Greenfield Avenue, West Allis, WI 53214. | City Hall, 7525 West Greenfield Avenue, West Allis, WI 53214. | Oct. 15, 2020 | 550285
Waukesha (FEMA Docket No.: B-2041). | City of Brookfield (20-05-1573P). | The Honorable Steven V. Ponto, Mayor, City of Brookfield, 2000 North Calhoun Road, Brookfield, WI 53005. | City Hall, 2000 North Calhoun Road, Brookfield, WI 53005. | Sep. 24, 2020 | 550478

[FR Doc. 2020-28222 Filed 12-21-20; 8:45 am]

BILLING CODE 9110-12-P